DEPARTMENT OF JUSTICE

Office of Justice Programs

[OJP (NIJ) Docket No. 1741]

Minimum Scheme Requirements To Certify Criminal Justice Restraints Described in NIJ Standard 1001.00

AGENCY: National Institute of Justice, Justice.

ACTION: Notice.

SUMMARY: The National Institute of Justice (NIJ) announces publication of Minimum Scheme Requirements to Certify Criminal Justice Restraints Described in NIJ Standard 1001.00. The minimum scheme requirements are found in the Supplementary Information below, as well as in the document found here: https://www.ncjrs.gov/pdffiles1/nij/250566.pdf. NIJ Standard 1001.00, Criminal Justice Restraints Standard, was published in the Federal Register on November 19, 2014, and may be found here: https://federalregister.gov/a/2014-27367. All references to “Criminal Justice Restraints Certification Program Requirements, NIJ CR-1001.00” in NIJ Standard 1001.00, including in Section 1.1.1 of that standard, shall be understood to refer to the Minimum Scheme Requirements published here.

NIJ has been working with conformity assessment bodies to develop acceptable criteria by which NIJ would recognize a product certification scheme operated by a certification body in the private sector. Certification better ensures that quality restraints are available to criminal justice practitioners. In the interest of officer safety and public safety, NIJ anticipates recognizing certification programs in the private sector that meet or exceed the minimum scheme requirements. Certification bodies that are interested in developing a product certification scheme for restraints described in NIJ Standard 1001.00 should contact NIJ at the contact information listed below. As previously noted (https://www.federalregister.gov/d/2016-22057), Safety Equipment Institute (SEI), which is accredited by the American National Standards Institute (ANSI) to ISO/IEC 17065 Conformity assessment —Requirements for bodies certifying products, processes and services, has established a certification program for restraints described in NIJ Standard 1001.00. ISO/IEC 17065 is a joint endeavor of the International Organization for Standardization (ISO) and the International Electrotechnical Commission (IEC). Further guidance on recognition of this certification program or others will be published in the Federal Register at a future date, to be determined.

FOR FURTHER INFORMATION CONTACT: Mark Greene, Policy and Standards Division Director, Office of Science and Technology, National Institute of Justice, 810 7th Street NW., Washington, DC 20531; telephone number: (202) 307-3384; email address: mark.greene2@usdoj.gov.

SUPPLEMENTARY INFORMATION: The following describes the minimum requirements that a product certification scheme must contain for the certification of restraints described in NIJ Standard 1001.00, Criminal Justice Restraints Standard. A product certification scheme includes the rules, procedures, and management required for carrying out product certification, which involves the assessment and attestation by an impartial third party that fulfilment of specified requirements has been demonstrated by a product. This is discussed further in ISO/IEC 17067, Conformity assessment— Fundamentals of product certification and guidelines for product certification schemes.

The following is intended primarily for those considering becoming certification scheme owners for the purpose of certifying restraints, in order to provide greater confidence to the criminal justice end user community that the restraints products conform to the requirements specified in NIJ Standard 1001.00. It includes minimum reasonable expectations that a certification body should meet in order to operate a certification program for restraints. The following is also intended for accreditation bodies that accredit certification bodies which may be considering certifying restraints to a scheme that includes laboratory testing of products to NIJ Standard 1001.00.

A draft version of the following was published for public comment for 30 days in the Federal Register, and may be found here: https://www.federalregister.gov/d/2016-22057. The public comment period opened on September 14, 2016, and closed on October 14, 2016.

The following terms are used in accordance with international standards:

—“shall” indicates a requirement;

—“should” indicates a recommendation;

—“may” indicates a permission;

—“can” indicates a possibility or a capability.

Nothing in the following is intended to create any legal or procedural rights enforceable against the United States. Moreover, nothing in this document creates any obligation for conformity assessment bodies to follow or adopt this voluntary standard, nor does it create any obligation for manufacturers, suppliers, law enforcement agencies, or others to follow or adopt voluntary NIJ equipment standards.

1 Scope

1.1 This document describes the minimum requirements that a product certification scheme must contain for the certification of restraints described in NIJ Standard 1001.00, Criminal Justice Restraints Standard.

1.2 This document includes provisions for NIJ to file urgent complaints with a certification body regarding products it certifies to protect criminal justice end users of restraints products, such as police officers and correctional officers, if NIJ believes that a hazardous condition exists.

1.3 This document includes provisions for NIJ to file urgent complaints with an accreditation body regarding conformity assessment bodies it accredits in the certification scheme to protect criminal justice end users of restraints products, such as police officers and correctional officers, if NIJ believes that a hazardous condition exists.

2 Normative References

ISO/IEC 17000, Conformity assessment—Vocabulary and general principles

ISO/IEC 17025, General requirements for the competence of testing and calibration laboratories

ISO/IEC 17030, Conformity assessment—General requirements for third-party marks of conformity

ISO/IEC 17065, Conformity assessment—Requirements for bodies certifying products, processes and services

ISO/IEC 17067, Conformity assessment—Fundamentals of product certification and guidelines for product certification schemes

ISO/IEC Directives, Part 2, Principles and rules for the structure and drafting of ISO and IEC documents, seventh edition, 2016

NIJ Standard 1001.00, Criminal Justice Restraints Standard

3 Terms and Definitions

For the purposes of this document, the terms and definitions given in ISO/IEC 17000, ISO/IEC 17065, ISO/IEC 17067, and NIJ 1001.00 apply.

4 Scheme requirements

4.1 The product certification scheme shall follow the guidelines in ISO/IEC 17067.

4.1.1 The product certification scheme shall be of scheme type 5 as described in 5.3.7 in ISO/IEC 17067.

4.1.2 The scheme shall include provisions for the certification body to ensure that the client maintains an appropriate quality management system (e.g., conforms to ISO 9001) and that the client follows appropriate quality assurance processes.

4.1.3 The certification body shall issue a mark of conformity to be displayed on certified products in accordance with ISO/IEC 17030.

4.2 Conformity assessment bodies shall be accredited.

4.2.1 Certification bodies shall be accredited to ISO/IEC 17065 by an accreditation body that is a signatory to the International Accreditation Forum (IAF) Multilateral Recognition Arrangement (MLA).

4.2.2 Certification bodies shall have a scope of accreditation to include NIJ 1001.00.

4.2.3 Testing laboratories shall be accredited to ISO/IEC 17025 by an accreditation body that is a signatory to the International Laboratory Accreditation Cooperation (ILAC) Mutual Recognition Arrangement (MRA).

4.2.4 Testing laboratories shall have a scope of accreditation that includes NIJ 1001.00 and all test methods referenced therein.

4.2.5 The certification body can take the qualification, assessing, and monitoring performed by other organizations (e.g., accreditation bodies) or bodies that provide outsourced services (e.g., testing laboratories) into account provided that: (1) It is provided for within the scheme requirements; (2) the scope is applicable to the work being undertaken; and (3) the validity of the qualification, assessing, and monitoring arrangements is verified at a periodicity determined by the certification body.

4.3 NIJ may request information from the certification body.

4.3.1 NIJ may request in writing directly from the certification body a list of all actions taken against specified current or previously certified products, such as termination, reduction, suspension, or withdrawal of certification.

4.3.2 If requested to do so, the certification body shall provide in writing the information requested by NIJ in 4.3.1 within five (5) working days.

4.4 NIJ may bring urgent complaints to the certification body.

4.4.1 NIJ may bring urgent complaints regarding certified products, or products believed to be certified, directly to the certification body if NIJ believes that a hazardous condition exists.

4.4.2 Should NIJ bring an urgent complaint to the attention of the certification body, NIJ shall articulate the complaint in writing.

4.4.3 The certification body shall provide an expedited response in writing to NIJ within five (5) working days, articulating how it plans to proceed with the urgent complaint, including actions it may take to determine the validity of the complaint and an estimated timeline to determine the validity of the complaint.

4.5 NIJ may request information from accreditation bodies.

4.5.1 NIJ may request in writing directly from an accreditation body a list of all actions taken against a conformity assessment body that it accredits in the certification scheme, such as termination, reduction, suspension, or withdrawal of certification.

4.5.2 If requested to do so, the accreditation body shall provide in writing the information NIJ requested in 4.5.1 within five (5) working days.

4.6 NIJ may bring urgent complaints to accreditation bodies.

4.6.1 NIJ may bring urgent complaints directly to an accreditation body regarding conformity assessment bodies that it accredits in the certification scheme if NIJ believes a hazardous condition exists.

4.6.2 Should NIJ bring an urgent complaint to the attention of an accreditation body, NIJ shall articulate the complaint in writing.

4.6.3 The accreditation body shall provide an expedited response in writing to NIJ within five (5) working days, articulating how it plans to proceed with the urgent complaint, including actions it may take to determine the validity of the complaint and an estimated timeline to determine the validity of the complaint.

4.7 Accreditation bodies shall notify NIJ of any changes in the accreditation status or scope of accreditation of any conformity assessment bodies in the certification scheme.

4.7.1 Changes in accreditation status include suspension, withdrawal, or reduction of the scope of accreditation.

4.7.2 The accreditation body shall notify NIJ in writing within five (5) working days after such action is taken.

Howard Spivak,
Acting Director, National Institute of Justice.

[FR Doc. 2017-14638 Filed 7-12-17; 8:45 am]

BILLING CODE 4410-18-P